DEPARTMENT OF VETERANS AFFAIRS

West Los Angeles VA Medical Center; Preliminary Draft Final Master Plan—Public Comment Period

AGENCY: Department of Veterans Affairs.

ACTION: Notice.

SUMMARY: This Federal Register Notice announces an opportunity for public comment on the Preliminary Draft Final Master Plan for the West Los Angeles (WLA) Department of Veterans Affairs (VA) campus (hereinafter referred to as the “Preliminary Draft Final Master Plan”). The WLA campus is approximately 387 acres in the heart of Los Angeles. There are 104 buildings across the campus of which 39 are designated as historic, 12 are considered to be exceptionally high risk for a seismic event, and a number are vacant or closed. The purpose of this Preliminary Draft Final Master Plan is to support VA's ongoing efforts to revitalize the campus into a more Veteran-focused environment, notably for severely disabled, aging, female, and homeless Veterans. This master planning effort is consistent with VA's goal to help end Veteran homelessness nationwide, particularly in the Greater Los Angeles region, one of the largest homeless Veteran populations in the country. This notice solicits public comments on the Preliminary Draft Final Master Plan. At the end of the public comment period, VA will review the comments received, post summary responses into the Federal Register via a second notice, ready the Preliminary Draft Final Master Plan for environmental and historic preservation due diligence, and prepare a Final Master Plan for the WLA campus.

DATES: Written comments on the Preliminary Draft Final Master Plan must be received on or before December 7, 2015.

ADDRESSES: Written comments may be submitted through http://www.Regulations.gov; or by mail or hand-delivery to Director, Regulations Management (02REG), Department of Veterans Affairs, 810 Vermont Avenue NW., Room 1068, Washington, DC 20420; or by fax to (202) 273-9026. Comments should indicate that they are submitted in response to “Notice: Preliminary Draft Final Master Plan.” All comments received will be available for public inspection in the Office of Regulation Policy and Management, Room 1063B, between the hours of 8 a.m. and 4:30 p.m., Monday through Friday (except holidays). Call (202) 461-4902 for an appointment.

SUPPLEMENTARY INFORMATION: The mission of the VA's Veterans Health Administration (VHA) is to honor America's veterans by providing exceptional health care that improves their health and wellbeing. VHA implements VA's medical care, research, and education programs. The WLA campus is part of the larger VA Greater Los Angeles (GLA) Healthcare System, serving Veterans in Los Angeles, Ventura, Santa Barbara, San Luis Obispo and Kern Counties, California. The WLA campus provides a variety of medical services including inpatient and outpatient care, rehabilitation, residential care, and long-term care services. In addition, it serves as a center for medical research and education.

In keeping with VA's goals to reach as many veterans as possible and to ensure that those veterans have a voice regarding the services that they need the most, we have decided to make the Preliminary Draft Final Master Plan available at http://www.losangeles.va.gov/ upon publication of this notice and invite members of the public or other interested parties to review the Preliminary Draft Final Master Plan and to comment on it. We note that free internet access is available at the public libraries in the VA GLA region listed below to enable the public to review and comment on the Preliminary Draft Final Master Plan. Certain public library systems may require members of the public to hold a valid library card to receive free internet access at their branches. In addition, VA will make physical copies of the Preliminary Draft Final Master Plan available at the public library systems denoted with an asterisk (*).

City of Los Angeles Public Library System *

Central Library, 630 W. 5th St., Los Angeles, CA 90071, (213) 228-7000

Donald Bruce Kaufman—Brentwood Branch Library, 11820 San Vicente Blvd., Los Angeles, CA 90049, (310) 575-8273

Palisades Branch Library, 861 Alma Real Dr., Pacific Palisades, CA 90272, (310) 459-2754

Venice—Abbot Kinney Memorial Branch Library, 501 S. Venice Blvd., Venice, CA 90291, (310) 821-1769

West Los Angeles Regional Library, 11360 Santa Monica Blvd., Los Angeles, CA 90025, (310) 575-8323

Westwood Branch Library, 1246 Glendon Ave., Los Angeles, CA 90024, (310) 474-1739

County of Los Angeles Public Library System *

West Hollywood Library, 625 N. San Vicente Blvd., West Hollywood, CA 90069, (310) 652-5340

Santa Monica Public Library System *

Main Library, 601 Santa Monica Blvd., Santa Monica, CA 90401, (310) 458-8600

UCLA Library System *

Powell Library, 405 Hilgard Ave., Los Angeles, CA 90095, (310) 825-1938

For those members of the public in the GLA region that reside outside the County of Los Angeles, we note that the central library branches listed below provide free internet access to the public:

Kern County Public Library System

Beale Memorial Library, 701 Truxtun Ave., Bakersfield, CA 93301, (661) 868-0701

San Luis Obispo County Public Library System

San Luis Obispo Library, 995 Palm St., San Luis Obispo, CA 93403, (805) 781-5991

Santa Barbara Public Library System

Downtown Central Library, 40 E. Anapamu St., Santa Barbara, CA 93101, (805) 962-7653

Ventura County Public Library System

E.P. Foster Library, 651 E. Main St., Ventura, CA 93001, (805) 648-2716

Signing Authority

The Secretary of Veterans Affairs, or designee, approved this document and authorized the undersigned to sign and submit the document to the Office of the Federal Register for publication electronically as an official document of the Department of Veterans Affairs. Robert L. Nabors II, Chief of Staff, Department of Veterans Affairs, approved this document on October 19, for publication.

Dated: October 19, 2015.
William F. Russo,
Director, Office of Regulation Policy & Management, Office of the General Counsel, Department of Veterans Affairs.

[FR Doc. 2015-26945 Filed 10-21-15; 8:45 am]

BILLING CODE 8320-01-P